DEPARTMENT OF ENERGY

Federal Energy Regulatory Commission

[Docket No. RP03-545-002]

Dominion Cove Point LNG, LP; Notice of Compliance Filing

December 10, 2003.

Take notice that on December 9, 2003, Dominion Cove Point LNG, LP (Cove Point) tendered for filing as part of its FERC Gas Tariff, Original Volume No. 1, the following tariff sheets, with an effective date of August 1, 2003:

Second Substitute Second Revised Sheet No. 240

Second Substitute First Revised Sheet No. 241

Substitute Second Revised Sheet No. 245

Cove Point states that the purpose of this filing is to comply with the Commission's “Order On Compliance” issued on November 18, 2003. Cove Point has filed to modify its capacity release provisions in Section 10 (Release and Assignment of Service Rights) of the General Terms and Conditions (GT & C) of its FERC Gas Tariff consistent with the Commission's November 18 Order.

Any person desiring to protest said filing should file a protest with the Federal Energy Regulatory Commission, 888 First Street, NE, Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00579 Filed 12-16-03; 8:45 am]

BILLING CODE 6717-01-P